DEPARTMENT OF ENERGY

Federal Energy Regulatory Commission

Combined Notice of Filings #3

Take notice that the Commission received the following electric corporate filings:

Docket Numbers: ER23-335-000.

Applicants: NorthWestern Corporation.

Description: § 205(d) Rate Filing: NorthWestern Corporation submits tariff filing per 35.13(a)(2)(iii: SA 296 6th Rev—NITSA with ExxonMobil Corporation to be effective 1/1/2023.

Filed Date: 11/1/22.

Accession Number: 20221101-5203.

Comment Date: 5 p.m. ET 11/22/22.

Docket Numbers: ER23-336-000.

Applicants: NorthWestern Corporation.

Description: § 205(d) Rate Filing: Revised Exhibits to Montana Intertie Agreement to be effective 10/1/2022.

Filed Date: 11/1/22.

Accession Number: 20221101-5212.

Comment Date: 5 p.m. ET 11/22/22.

Docket Numbers: ER23-337-000.

Applicants: Southwest Power Pool, Inc.

Description: § 205(d) Rate Filing: 3599R1 Missouri Electric Commission NITSA NOA to be effective 1/1/2023.

Filed Date: 11/1/22.

Accession Number: 20221101-5214.

Comment Date: 5 p.m. ET 11/22/22.

Docket Numbers: ER23-338-000.

Applicants: Duke Energy Florida, LLC, Duke Energy Carolinas, LLC.

Description: § 205(d) Rate Filing: Duke Energy Florida, LLC submits tariff filing per 35.13(a)(2)(iii: DEF—Revisions to Joint OATT to Provide NFEETS to be effective 12/31/9998.

Filed Date: 11/1/22.

Accession Number: 20221101-5216.

Comment Date: 5 p.m. ET 11/22/22.

Docket Numbers: ER23-339-000.

Applicants: South Carolina Generating Company, Inc.

Description: § 205(d) Rate Filing: Small Rate Increase GENCO to be effective 1/1/2023.

Filed Date: 11/1/22.

Accession Number: 20221101-5219.

Comment Date: 5 p.m. ET 11/22/22.

Docket Numbers: ER23-340-000.

Applicants: El Paso Electric Company (EPE).

Description: El Paso Electric Company submits 2022 WECC Soft Price Cap Justification Filing.

Filed Date: 10/28/22.

Accession Number: 20221028-5394.

Comment Date: 5 p.m. ET 11/18/22.

Docket Numbers: ER23-341-000.

Applicants: Concurrent LLC.

Description: Baseline eTariff Filing: Concurrent LLC submits tariff filing per 35.12: Application for Market-Based Rate Authorization to be effective 11/2/2022.

Filed Date: 11/1/22.

Accession Number: 20221102-5000.

Comment Date: 5 p.m. ET 11/22/22.

Docket Numbers: ER23-342-000.

Applicants: Southwest Power Pool, Inc.

Description: § 205(d) Rate Filing: 4029 Panhandle Solar & SPS Facilities Service Agreement to be effective 1/2/2023.

Filed Date: 11/2/22.

Accession Number: 20221102-5004.

Comment Date: 5 p.m. ET 11/23/22.

Docket Numbers: ER23-343-000.

Applicants: Sirrius Energy LLC.

Description: Notice of Cancellation of Market Based Rate Tariff of Sirrius Energy LLC.

Filed Date: 11/1/22.

Accession Number: 20221101-5251.

Comment Date: 5 p.m. ET 11/22/22.

Docket Numbers: ER23-344-000.

Applicants: Midcontinent Independent System Operator, Inc.

Description: § 205(d) Rate Filing: 2022-11-02_SA 3321 METC-Isabella Renewables I & II E&P (J717 J728) to be effective 11/3/2022.

Filed Date: 11/2/22.

Accession Number: 20221102-5039.

Comment Date: 5 p.m. ET 11/23/22.

Docket Numbers: ER23-345-000.

Applicants: Versant Power.

Description: § 205(d) Rate Filing: Revised Attachment J Formula Rates for MPD OATT to be effective 6/1/2023.

Filed Date: 11/2/22.

Accession Number: 20221102-5061.

Comment Date: 5 p.m. ET 11/23/22.

Docket Numbers: ER23-346-000.

Applicants: PJM Interconnection, L.L.C.

Description: § 205(d) Rate Filing: Amendment to ISA, SA No. 1127; Queue No. AD2-113/AD2-114 (amend) to be effective 11/12/2019.

Filed Date: 11/2/22.

Accession Number: 20221102-5069.

Comment Date: 5 p.m. ET 11/23/22.

Docket Numbers: ER23-347-000.

Applicants: Tri-State Generation and Transmission Association, Inc.

Description: § 205(d) Rate Filing: Initial Filing of Rate Schedule No. 349 to be effective 10/3/2022.

Filed Date: 11/2/22.

Accession Number: 20221102-5091.

Comment Date: 5 p.m. ET 11/23/22.

Docket Numbers: ER23-348-000.

Applicants: New England Power Company.

Description: § 205(d) Rate Filing: 2022-11-02 Filing of Revisions to New England Power Company Tariff No. 1 to be effective 1/1/2023.

Filed Date: 11/2/22.

Accession Number: 20221102-5093.

Comment Date: 5 p.m. ET 11/23/22.

Docket Numbers: ER23-349-000.

Applicants: New York Independent System Operator, Inc.

Description: § 205(d) Rate Filing: Section 205 Filing re: Bad Debt Loss Allocation Calculation Revisions to be effective 1/3/2023.

Filed Date: 11/2/22.

Accession Number: 20221102-5094.

Comment Date: 5 p.m. ET 11/23/22.

Take notice that the Commission received the following electric reliability filings.

Docket Numbers: RD23-1-000.

Applicants: North American Electric Reliability Corporation.

Description: North American Electric Reliability Corporation submits Petition for Approval of Proposed Reliability Standards EOP-011-3 and EOP-012-1 and Request for Expedited Action.

Filed Date: 10/28/22.

Accession Number: 20221028-5393.

Comment Date: 5 p.m. ET 12/1/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2022.
Debbie-Anne A. Reese,
Deputy Secretary.

[FR Doc. 2022-24332 Filed 11-7-22; 8:45 am]

BILLING CODE 6717-01-P